DEPARTMENT OF COMMERCE

International Trade Administration

[A-489-822]

Welded Line Pipe From Turkey: Rescission of Antidumping Duty Administrative Review; 2015-2016

AGENCY: Enforcement and Compliance, International Trade Administration, Department of Commerce.

SUMMARY: The Department of Commerce (the Department) is rescinding the administrative review of the antidumping duty order on welded line pipe from Turkey for the period May 22, 2015, through November 30, 2016.

DATES: Effective June 1, 2017.

FOR FURTHER INFORMATION CONTACT: Alice Maldonado or David Crespo, AD/CVD Operations, Office II, Enforcement and Compliance, International Trade Administration, U.S. Department of Commerce, 1401 Constitution Avenue NW., Washington, DC 20230; telephone: (202) 482-4682 or (202) 482-3693, respectively.

Background

On December 1, 2016, the Department published in the Federal Register a notice of “Opportunity to Request Administrative Review” of the antidumping duty order on welded line pipe from Turkey for the period May 22, 2015, through November 30, 2016.¹ In December 2016 and January 2017, the Department received timely requests, in accordance with section 751(a) of the Tariff Act of 1930, as amended (the Act), to conduct an administrative review of this antidumping duty order from Maverick Tube Corporation (Maverick), Stupp Corporation, a division of Stupp Bros., Inc. (Stupp Corp.), and American Cast Iron Pipe Company (ACIPCO) (collectively, the petitioners), and from Borusan Mannesmann Boru Sanayi ve Ticaret A.S. and Borusan Istikbal Ticaret (collectively, Borusan).² Based upon these requests, on February 13, 2017, in accordance with section 751(a) of the Act, the Department published in the Federal Register a notice of initiation listing nineteen companies for which the Department received timely requests for review.³ On March 3 and May 9, 2017, Borusan and the petitioners, respectively, withdrew all requests for an administrative review.⁴

¹ See Antidumping or Countervailing Duty Order, Finding, or Suspended Investigation; Opportunity to Request Administrative Review, 81 FR 86694 (December 1, 2016).

² See Letters from Maverick and from Stupp Corp. and ACIPCO to the Department, “Welded Line Pipe from the Republic of Turkey: Request for Administrative Review,” dated December 30, 2016; see also Letter from Borusan to the Department, “Welded Line Pipe from Turkey, Case No. A-489-822: Request for Administrative Review,” dated January 3, 2017.

³ See Initiation of Antidumping and Countervailing Duty Administrative Reviews, 82 FR 10457 (February 13, 2017).

⁴ See Letter from Borusan to the Department, “Welded Line Pipe from Turkey, Case No. A-489-822: Withdrawal of Request for Administrative Review,” dated March 3, 2017; see also Letters from Maverick and from Stupp Corp. and ACIPCO to the Department, “Welded Line Pipe from the Republic of Turkey: Withdrawal of Request for Administrative Review,” dated May 9, 2017.

Rescission of Review

Pursuant to 19 CFR 351.213(d)(1), the Secretary will rescind an administrative review, in whole or in part, if a party who requested the review withdraws the request within 90 days of the date of publication of notice of initiation of the requested review. All the aforementioned withdrawal requests were timely submitted, and no other interested party requested an administrative review of any company. Therefore, we are rescinding the administrative review of the antidumping duty order on welded line pipe from Turkey covering the period May 22, 2015, through November 30, 2016.

Assessment

The Department will instruct U.S. Customs and Border Protection (CBP) to assess antidumping duties on all appropriate entries. Antidumping duties shall be assessed at rates equal to the cash deposit of estimated antidumping duties required at the time of entry, or withdrawal from warehouse, for consumption, in accordance with 19 CFR 351.212(c)(1)(i). The Department intends to issue appropriate assessment instructions to CBP 15 days after publication of this notice in the Federal Register.

Notification to Importers

This notice serves as a reminder to importers of their responsibility under 19 CFR 351.402(f)(2) to file a certificate regarding the reimbursement of antidumping duties prior to liquidation of the relevant entries during this review period. Failure to comply with this requirement could result in the Department's presumption that reimbursement of antidumping duties occurred and the subsequent assessment of doubled antidumping duties.

Notification Regarding Administrative Protective Orders

This notice also serves as a reminder to parties subject to administrative protective order (APO) of their responsibility concerning the return or destruction of proprietary information disclosed under APO in accordance with 19 CFR 351.305. Timely written notification of the return/destruction of APO materials or conversion to judicial protective order is hereby requested. Failure to comply with the regulations and terms of an APO is a violation which is subject to sanction.

This notice is issued and published in accordance with section 751 of the Act and 19 CFR 351.213(d)(4).

Dated: May 24, 2017.
Gary Taverman,
Deputy Assistant Secretary for Antidumping and Countervailing Duty Operations.

[FR Doc. 2017-11206 Filed 5-31-17; 8:45 am]

BILLING CODE 3510-DS-P